DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://ofac.treasury.gov).

Notice of OFAC Actions

On June 16, 2023, OFAC determined that the property and interests in property subject to U.S. jurisdiction of the following persons are blocked under the relevant sanctions authority listed below.

Individuals

1. HERNANDEZ SALAS, Ofelia (a.k.a. “DONA LUPE”; a.k.a. “GUADALUPE”; a.k.a. “LA GUERA”; a.k.a. “LA LUPE”), Avenida Barreda #2318, Res. Quintas del Rey, Mexicali, Baja California, Mexico; Avenida Dinamarca S/N, Col. Orizaba, Mexicali, Baja California, Mexico; DOB 27 Jun 1962; POB Guerrero, Mexico; nationality Mexico; Gender Female; C.U.R.P. HESO620627MGRRLF03 (Mexico) (individual) [TCO] (Linked To: HERNANDEZ SALAS TRANSNATIONAL CRIMINAL ORGANIZATION).

Designated pursuant to section 1(a)(ii)(B) of Executive Order 13581 of July 24, 2011, “Blocking Property of Transnational Criminal Organizations,” 76 FR 44757 (July 27, 2011) (E.O. 13581), as amended by Executive Order 13863 of March 15, 2019, “Taking Additional Steps to Address the National Emergency With Respect to Significant Transnational Criminal Organizations,” 84 FR 10255 (March 19, 2019) (E.O. 13581, as amended), for having materially assisted, sponsored, or provided financial, material, or technological support for, or goods or services to or in support of, the HERNANDEZ SALAS TRANSNATIONAL CRIMINAL ORGANIZATION (HERNANDEZ SALAS TCO), a person whose property and interests in property are blocked pursuant to E.O. 13581.

Designated pursuant to section 1(a)(ii)(C) of E.O. 13581, as amended, for being owned or controlled by, for having acted or for having purported to act for or on behalf of, directly or indirectly, a person whose property and interests in property are blocked pursuant to E.O. 13581.

2. HERNANDEZ SANCHEZ, Federico, Av. Yugoslavia No. 130 Colonia Palmares de Orizaba, Mexicali, Baja California, Mexico; DOB 20 Apr 1980; POB Guanajuato, Mexico; nationality Mexico; Gender Male; C.U.R.P. HESF800420HGTRND02 (Mexico) (individual) [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

3. CHAVEZ TAMAYO, Jesus Gerardo, Internacional 29 Fronteriza, Mexicali, Baja California 21110, Mexico; DOB 24 Dec 1965; POB Sinaloa, Mexico; nationality Mexico; Gender Male; C.U.R.P. CATJ651224HSLHMS05 (Mexico) (individual) [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

4. MALDONADO LOPEZ, Fatima del Rocio, C 3A Oriente 82 A, Tapachula, Chiapas 30700, Mexico; DOB 23 Mar 1990; POB Chiapas, Mexico; nationality Mexico; Gender Female; Passport G40605411 (Mexico); C.U.R.P. MALF900323MCSLPT04 (Mexico); I.F.E. MLLPFT90032307M700 (Mexico) (individual) [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

5. SAUCEDO HUIPIO, Raul (a.k.a. “RICARDO”), Avenida Dinamarca S/N, Col. Orizaba, Mexicali, Baja California, Mexico; Priv. de Ruben Mora 27, Col. Los Naranjos 39480, Acapulco de Juarez, Guerrero, Mexico; DOB 03 Sep 1974; POB Guerrero, Mexico; nationality Mexico; citizen Mexico; Gender Male; C.U.R.P. SAH R740903HG RCPL07 (Mexico); I.F.E. SCHPRL74090312H802 (Mexico) (individual) [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

Entities

1. HERNANDEZ SALAS TRANSNATIONAL CRIMINAL ORGANIZATION (a.k.a. “HERNANDEZ SALAS TCO”), Mexicali, Mexico; Tijuana, Mexico; Organization Established Date 2018; Target Type Criminal Organization [TCO].

Designated pursuant to section 1(a)(ii)(A) of E.O. 13581, as amended, for being a foreign person that constitutes a significant transnational criminal organization.

2. HOTEL PLAZA, Avenida Madero 366, Centro Civico, Mexicali, Baja California 21100, Mexico; website https://hotel-plaza-mexicali.negocio.site/; Phone Number +52 686-383-6864; Organization Type: Short term accommodation activities [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

3. HOTELERA LOPEZ MATEOS S.A. DE C.V. (a.k.a. HOTEL LAS TORRES), Boulevard Adolfo Lopez Mateos 1401, Mexicali, Baja California 21040, Mexico; website https://hotelastorres.com/home.html; Phone Number +52 686 555 5920; Organization Established Date 08 May 2014; Organization Type: Short term accommodation activities; Tax ID No. HLM140508NU5 (Mexico) [TCO] (Linked To: HERNANDEZ SALAS TRANSNATIONAL CRIMINAL ORGANIZATION).

Designated pursuant to section 1(a)(ii)(B) of E.O. 13581, as amended, for having materially assisted, sponsored, or provided financial, material, or technological support for, or goods or services to or in support of, the HERNANDEZ SALAS TCO, a person whose property and interests in property are blocked pursuant to E.O. 13581.

Dated: June 16, 2023.
Andrea Gacki,
Director, Office of Foreign Assets Control, U.S. Department of the Treasury.

[FR Doc. 2023-13252 Filed 6-21-23; 8:45 am]

BILLING CODE 4810-AL-P